SURFACE TRANSPORTATION BOARD

[Docket No. FD 36080]

Decatur Central Railroad, L.L.C.—Change in Operator Exemption—Decatur Junction Railway Co.

Decatur Central Railroad, L.L.C. (DC), a noncarrier, has filed a verified notice of exemption under 49 CFR 1150.31 to assume operations of a rail line located between milepost 14.22 in Cisco, Piatt County, Ill., and milepost 27.63 (Green's Switch) near Decatur, Macon County, Ill., a distance of approximately 13 miles (the Line). The Line is currently leased to and operated by Decatur Junction Railway Co. (DJRC), which consents to the proposed change in operators. DC will become a rail carrier as a result of this transaction.

DC describes itself as a joint venture between OmniTRAX Holdings Combined, Inc. and Topflight Grain Cooperative, Inc., which each own 50% of DC. DJRC has agreed to relinquish to DC, and DC has agreed to assume, the exclusive common carrier obligation over the Line.

DC states that the agreement by which it will assume operations does not contain any provision that prohibits DC from interchanging traffic with a third party or limits DC's ability to interchange traffic with a third party railroad.

DC certifies that the proposed transaction will not result in DC's becoming a Class II or Class I rail carrier. DC will become a Class III carrier upon consummation of the proposed transaction, but the projected annual revenue of DC will not exceed $5 million. Under 49 CFR 1150.32(b), a change in operator requires that notice be given to shippers. DC certifies that it has provided notice of the proposed change in operator to the only shipper on the Line.

The earliest this transaction can be consummated is January 21, 2017, the effective date of the exemption.¹

¹ DC filed its verified notice of exemption on December 8, 2016, and supplemented it by letter filed on December 22, 2016. The date of DC's supplement will be considered the filing date for purposes of calculating the effective date of the exemption.

If the verified notice contains false or misleading information, the exemption is void ab initio. Petitions to revoke the exemption under 49 U.S.C. 10502(d) may be filed at any time. The filing of a petition to revoke will not automatically stay the effectiveness of the exemption. Petitions for stay must be filed no later than January 13, 2017 (at least seven days before the exemption becomes effective).

An original and 10 copies of all pleadings, referring to Docket No. FD 36080, must be filed with the Surface Transportation Board, 395 E Street SW., Washington, DC 20423-0001. In addition, one copy of each pleading must be served on Karl Morell, Karl Morell & Associates, Suite 225, 655 Fifteenth Street NW., Washington, DC 20005.

Board decisions and notices are available on our Web site at WWW.STB.GOV.

Decided: January 3, 2017.
By the Board, Rachel D. Campbell, Director, Office of Proceedings.
Raina S. Contee,
Clearance Clerk.

[FR Doc. 2017-00020 Filed 1-5-17; 8:45 am]

BILLING CODE 4915-01-P